SMALL BUSINESS ADMINISTRATION

[Disaster Declaration #11469 and #11470]

Illinois Disaster Number IL-00019

AGENCY: U.S. Small Business Administration.

ACTION: Amendment 2.

SUMMARY: This is an amendment of the Presidential declaration of a major disaster for the State of Illinois (FEMA-1800-DR), dated 10/03/2008.

Incident: Severe storms and flooding.

Incident Period: 09/13/2008 through 10/05/2008.

Effective Date: 11/03/2008.

Physical Loan Application Deadline Date: 12/02/2008.

EIDL Loan Application Deadline Date: 07/03/2009.

ADDRESSES: Submit completed loan applications to : U.S. Small Business Administration, Processing And Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the Presidential disaster declaration for the State of Illinois, dated 10/03/2008 is hereby amended to include the following areas as adversely affected by the disaster:

Primary Counties: (Physical Damage and Economic Injury Loans):

Woodford.

Contiguous Counties: (Economic Injury Loans Only):

Illinois: McLean, Peoria, Tazewell.

All other information in the original declaration remains unchanged.

(Catalog of Federal Domestic Assistance Numbers 59002 and 59008)

Herbert L. Mitchell,
Associate Administrator for Disaster Assistance.

[FR Doc. E8-26927 Filed 11-12-08; 8:45 am]

BILLING CODE 8025-01-P